DEPARTMENT OF TRANSPORTATION

Federal Highway Administration

Notice To Rescind Notice of Intent To Prepare Environmental Impact Statement for the I-270/U.S. 15 Multi-Modal Corridor Study in Montgomery County and Frederick County, Maryland

AGENCY: Federal Highway Administration (FHWA), DOT.

ACTION: Notice to rescind notice of intent to prepare an environmental impact statement.

SUMMARY: The FHWA is issuing this notice to advise the public that it is rescinding its Notice of Intent (NOI) to prepare an Environmental Impact Statement (EIS) for the I-270/U.S. 15 Multi-Modal Corridor Study in Montgomery County and Frederick County, Maryland. The NOI was published in the Federal Register on December 10, 1997. This rescission is based on no plans to advance this study.

FOR FURTHER INFORMATION CONTACT: Gregory Murrill, Division Administrator, Federal Highway Administration, Maryland Division, George H. Fallon Federal Building, 31 Hopkins Plaza, Suite 1520, Baltimore, Maryland 21201; Telephone: (410) 962-4440.

SUPPLEMENTARY INFORMATION: The FHWA, as the lead Federal agency, in cooperation with the Maryland Department of Transportation State Highway Administration (MDOT SHA) as the joint lead agency and local project sponsor, Federal Transit Administration (FTA), and MDOT Maryland Transit Administration (MDOT MTA), published an NOI on December 10, 1997, to prepare an EIS on a proposal to provide multi-modal transportation improvements along the I-270/U.S. 15 corridor in Montgomery and Frederick Counties, Maryland for a distance of approximately 35 miles. The FHWA, MDOT SHA, FTA, and MDOT MTA made a Draft EIS available to the public on May 14, 2002, and held public hearings on June 25 and June 27, 2002. The FHWA, MDOT SHA, FTA, and MDOT MTA prepared an Alternatives Analysis/Environmental Assessment (AA/EA) in May 2009 as a companion to the 2002 DEIS, which addressed the addition of Express Toll Lanes on I-270 as alternatives for the roadway component. The 2009 AA/EA was released to the public and public hearings were held on June 16 and June 18, 2009. In 2011, FHWA and FTA jointly agreed that the transit component (Corridor Cities Transitway—CCT) of the Multi-Modal Corridor Study had independent utility and was advanced separately from the roadway (I-270) component. An EA was published for the CCT in August 2017. Since 2009, there has been no further effort on the EIS for the I-270/U.S. 15 Multi-Modal Corridor Study, and FHWA has not issued a NEPA decision.

The FHWA is rescinding the NOI because the local sponsor has no plans to advance the EIS. A separate NEPA study is being undertaken to evaluate potential improvements to U.S. 15 within the corridor, from I-70 to Maryland Highway 26. The FHWA and MDOT SHA will initiate new NEPA studies, as appropriate, to assess the potential environmental impacts of future actions that involve I-270. Comments and questions concerning this action should be directed to FHWA at the address provided above.

(Catalog of Federal Domestic Assistance Program Number 20.205, Highway Research, Planning and Construction. The regulations implementing Executive Order 12372 regarding intergovernmental consultation on Federal programs and activities apply to this program.)

(Authority: 23 U.S.C. 315; 49 CFR 1.48; 23 CFR 771.111 and 771.123)

Issued on: July 24, 2019.
Gregory Murrill,
Division Administrator, Federal Highway Administration, Baltimore, Maryland.

[FR Doc. 2019-16311 Filed 7-30-19; 8:45 am]

BILLING CODE 4910-22-P